DEPARTMENT OF COMMERCE

International Trade Administration

[C-122-854]

Supercalendered Paper From Canada: Amended Final Results of the Countervailing Duty Expedited Review

AGENCY: Enforcement and Compliance, International Trade Administration, Department of Commerce.

SUMMARY: The Department of Commerce (the Department) is amending the Final Results ¹ of the expedited review of the countervailing duty order on supercalendered paper from Canada to correct a ministerial error.

¹ See Supercalendered Paper from Canada: Final Results of the Countervailing Duty Expedited Review, 82 FR 18896 (April 24, 2017) (Final Results), and accompanying Issues and Decision Memorandum.

DATES: Effective June 1, 2017.

FOR FURTHER INFORMATION CONTACT: Peter Zukowski, AD/CVD Operations, Office I, Enforcement and Compliance, International Trade Administration, U.S. Department of Commerce, 1401 Constitution Avenue NW., Washington, DC 20230; telephone 202-482-0189.

SUPPLEMENTARY INFORMATION:

Background

On April 24, 2017, we received a timely ministerial error allegation from Catalyst Paper Corporation, Catalyst Pulp and Paper Sales Inc., Catalyst Paper (USA) Inc., and their affiliated companies (collectively Catalyst) regarding the Department's final subsidy rate calculations.²

² See letter to the Department, “Supercalendered Paper from Canada: Catalyst's Ministerial Error Comments” (April 24, 2017) (Catalyst Ministerial Error Allegation).

Ministerial Errors

We analyzed Catalyst's ministerial error ³ comments and determined, in accordance with 19 CFR 351.224(e), that there was a ministerial error in our calculation of Catalyst's net subsidy rate for the Final Results.⁴ In accordance with 19 CFR 351.224(e), we are amending the net subsidy rate for Catalyst from 0.94 percent (de minimis) to 0.93 percent (de minimis).

³ A “ministerial error” is defined by 19 CFR 351.224(f) as an error “in addition, subtraction, or other arithmetic function, clerical error resulting from inaccurate copying, duplication, or the like, and any similar type of unintentional error which the Secretary considers ministerial.”

⁴ See “Expedited Review of the Countervailing Duty Order on Supercalendered Paper from Canada: Allegations of Ministerial Errors,” May 24, 2017 (Ministerial Error Memorandum).

Cash Deposit Instructions

Pursuant to 19 CFR 351.214(k)(3)(iv), because we determined a countervailable subsidy rate for Catalyst that is de minimis, in the final results of the expedited review we excluded Catalyst from the countervailing duty order.⁵ Because Catalyst's rate remains de minimis, we will not issue new instructions to CBP.

⁵ See Final Results, 82 FR at 18897 (explaining that only merchandise produced and exported by Catalyst is excluded from the Order, and that the exclusion does not apply to merchandise produced by Catalyst and exported by any other company or merchandise produced by any other company and exported by Catalyst).

Disclosure

We will disclose the calculations performed for these amended final results to interested parties within five business days of the date of the publication of this notice in accordance with 19 CFR 351.224(b)

We are issuing and publishing this notice in accordance with 19 CFR 351.214(k) and 19 CFR 351.224(e).

Dated: May 24, 2017.
Ronald K. Lorentzen,
Acting Assistant Secretary for Enforcement and Compliance.

[FR Doc. 2017-11204 Filed 5-31-17; 8:45 am]

BILLING CODE 3510-DS-P